DEPARTMENT OF THE INTERIOR

Office of the Secretary

[Docket No. DOI-2025-0005; 256D0102DM; DS6CS00000; DLSN00000.000000; DX6CS25]

Regulatory Reform

AGENCY: Office of the Secretary, Interior.

ACTION: Request for information; extension of comment period.

SUMMARY: The Department of the Interior (DOI) is extending the comment period for its request for information (RFI) on regulatory reform, allowing additional time for the public to identify existing regulations that may be modified or repealed.

DATES: The comment period for the request for information published on May 20, 2025, at 90 FR 21504 is extended. Comments should be received on or before July 21, 2025.

ADDRESSES: Interested persons should submit ideas for cutting existing regulations within the jurisdiction of DOI via https://www.regulations.gov/deregulation and are also encouraged to submit comments, identified by “DOI Regulatory Reform RFI,” by any of the following methods:

Federal eRulemaking Portal: https://www.regulations.gov. Follow the instructions for submitting comments to DOI-2025-0005, which is the docket established for this RFI.

Email: Interior.RegulatoryInfo@doi.gov. Include “DOI Regulatory Reform RFI” in the subject line of the message.

Mail: U.S. Department of the Interior, Office of the Solicitor, 1849 C Street NW, Washington, DC 20240. All comments received will be posted without change to https://www.regulations.gov, including any personal information provided.

FOR FURTHER INFORMATION CONTACT: Jacob Tyner, U.S. Department of the Interior, Office of the Solicitor, 1849 C Street NW, Washington, DC 20240. Telephone: (202) 208-3100. Email: Interior.RegulatoryInfo@doi.gov.

SUPPLEMENTARY INFORMATION: On May 20, 2025, at 90 FR 21504, we published a RFI seeking public comment on ways to achieve a meaningful reduction in regulatory burdens while continuing to achieve DOI's legal obligations, mission, and regulatory objectives. Today we are publishing an extension of the comment period, establishing a new comment deadline of July 21, 2025, to allow additional time for comments. DOI notes that this RFI is issued solely for informational and program-planning purposes. While responses to this RFI do not bind DOI to any further actions related to the response, all submissions will be made publicly available on https://www.regulations.gov.

Jacob M. Tyner,
Deputy Solicitor for Energy and Mineral Resources.

[FR Doc. 2025-11587 Filed 6-20-25; 2:00 pm]

BILLING CODE 4334-CC-P